ENVIRONMENTAL PROTECTION AGENCY

[EPA-HQ-OPP-2008-0480; FRL-9226-4]

Agency Information Collection Activities; Submission to OMB for Review and Approval; Comment Request; Pesticide Registration Fees Program; EPA ICR No. 2330.01, OMB Control No. 2070-New

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request for a new collection that combines two currently approved ICRs. The ICR, which is abstracted below, describes the nature of the information collection and its estimated burden and cost.

DATES: Additional comments may be submitted on or before December 15, 2010.

ADDRESSES: Submit your comments, referencing Docket ID No. EPA-HQ-OPP-2008-0480, to (1) EPA online using http://www.regulations.gov (our preferred method), or by mail to: Office of Pesticide Programs (OPP) Regulatory Public Docket (7502P), Environmental Protection Agency 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Rame Cromwell, Field and External Affairs Division, Office of Pesticide Programs (7506P), Environmental Protection Agency, 1200 Pennsylvania Ave., NW., Washington, DC 20460; telephone number: 703-308-9068; fax number: 703-305-5884; e-mail address: cromwell.rame@epa.gov.

SUPPLEMENTARY INFORMATION: EPA has submitted the following ICR to OMB for review and approval according to the procedures prescribed in 5 CFR 1320.12. On December 10, 2008 (73 FR 75092), EPA sought comments on this ICR pursuant to 5 CFR 1320.8(d). EPA received no comments. Any additional comments on this ICR should be submitted to EPA and OMB within 30 days of this notice.

EPA has established a public docket for this ICR under Docket ID No. EPA-HQ-OPP-2008-0480 which is available for online viewing at http://www.regulations.gov, or in person viewing at the Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Docket is 703-305-5805.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Pesticide Registration Fees Program.

ICR Numbers: EPA ICR No. 2330.01, OMB Control No. 2070-new.

ICR Status: This is a new ICR that combines two currently approved ICRs. An Agency may not conduct or sponsor, and a person is not required to respond to, a collection of information, unless it displays a currently valid OMB control number. The OMB control numbers for EPA's regulations in title 40 of the CFR, after appearing in the Federal Register when approved, are displayed either by publication in the Federal Register or by other appropriate means, such as on the related collection instrument or form, if applicable. The display of OMB control numbers in certain EPA regulations is consolidated in 40 CFR part 9.

Abstract: This ICR covers the paperwork burden hours and costs associated with the information collection activities under the pesticide registration fee programs. Pesticide registrants are required by statute to pay an annual registration maintenance fee for all products registered under Section 3 and Section 24(c) of the Federal Insecticide, Fungicide and Rodenticide Act (FIFRA). In addition, the Pesticide Registration Improvement Act (PRIA) amended FIFRA in 2004 to create a registration service fee system for applications for specific pesticide registration, amended registration, and associated tolerance actions (FIFRA Section 33). This ICR specifically covers the activities related to both the collection of the pesticide registration fees and the submission and processing requests for the fees to be waived.

PRIA authorizes EPA to process requests for waivers of registration application fees. The ICR covers the collection activities associated with requesting a fee waiver and involves requesters submitting a waiver request, information to demonstrate eligibility for the waiver, and certification of eligibility. Waivers are available for small businesses, for minor uses, and for actions solely associated with the Inter-Regional Project Number 4 (IR-4). State and Federal agencies are exempt from the payment of fees.

FIFRA requires EPA to collect annual pesticide product registration maintenance fees from pesticides registrants. Respondents complete and submit EPA Form 8570-30 indicating the respondent's liability for the registration maintenance fee. Annually the Agency provides registrants with a list of their products currently registered with the Agency. Registrants are provided the opportunity to review the list, determine its accuracy, and remit payment of maintenance fee. The list of products has space identified for making those products to be supported and those products that are to be cancelled. The registrants are also instructed to identify any products on the list which they believe to be transferred to another company, and to add to the list any products which the company believes to be registered that are not the Agency-provided list. The failure to pay the required fee for a product will result in cancellation of that product's registration.

Burden Statement: The annual public reporting burden for this collection of information is estimated to average 3.6 hours per response. Burden is defined in 5 CFR 1320.3(b).

Respondents/Affected Entities: Persons engaged in activities related to the registration of pesticide products are identified by NAICS codes 32532 (Pesticide and other Agricultural Chemical Manufacturing), 9641 (Regulation of Agricultural Marketing and Commodities), 32518 (Other Basic Inorganic Chemical Manufacturing), and 32519 (Other Basic Organic Chemical Manufacturing).

Estimated Number of Respondents: 2,013.

Frequency of Response: On occasion or annually, as applicable.

Estimated Total Annual Hour Burden: 7,262 hours.

Estimated Total Annual Cost: $465,635, that includes $2,930 in Operations and Maintenance costs.

Changes in the Estimates: This is a new ICR, so there are no changes from a previous version. However, this ICR combines two existing ICRs (OMB Control No. 2070-0167 and 2070-0100) with approved burden currently in the OMB Inventory. The burden currently identified in the OMB Inventory of Approved ICR Burdens for the Pesticide Product Maintenance Fee ICR is the same, and there is a decrease in burden for the Pesticide Registration Fee Waivers ICR. The decrease is based on the shift in the distribution of responses to least burdensome-type, resulting in the lower total estimated burden.

Dated: November 8, 2010.
John Moses,
Director, Collection Strategies Division.

[FR Doc. 2010-28662 Filed 11-12-10; 8:45 am]

BILLING CODE 6560-50-P